DEPARTMENT OF THE INTERIOR

Bureau of Land Management

[LLUTG01100-09-L13100000-EJ0000]

Notice of Availability of a Draft Environmental Impact Statement for the Gasco Uinta Basin Natural Gas Development Project, Duchesne and Uintah Counties, UT

AGENCY: Bureau of Land Management, Interior.

ACTION: Notice of availability.

SUMMARY: Under the National Environmental Policy Act of 1969 (NEPA), the Federal Land Policy and Management Act of 1976 (FLPMA) and associated regulations, the Bureau of Land Management (BLM) has prepared a Draft Environmental Impact Statement (EIS) that evaluates, analyzes, and discloses to the public direct, indirect, and cumulative environmental impacts of a proposal to develop natural gas in Uintah and Duchesne Counties, Utah. This notice announces a 45-day public comment period to meet the requirements of the NEPA and Section 106 of the National Historic Preservation Act.

DATES: The Draft EIS will be available for public review for 45 calendar days following the date that the Environmental Protection Agency publishes its Notice of Availability in the Federal Register. The BLM can best use comments and resource information submitted within the 45-day review period. Public meetings will be held during the 45-day public comment period in Vernal, Duchesne, and Price, Utah. The dates, times, and places will be announced through local news media and the BLM Web site: http://www.blm.gov/ut/st/en/info/newsroom.2.html at least 15 days prior to the meeting dates.

ADDRESSES: Comments on the Draft EIS may be submitted by any of the following methods:

• Mail: Bureau of Land Management, Attn: Stephanie Howard, Vernal Field Office, 170 South 500 East, Vernal, Utah 84078.

• E-mail: UT_Vernal_Comments@blm.gov.

• Fax: (435) 781-4410.

Please reference the Gasco EIS when submitting your comments. Comments and information submitted on the Draft EIS for the Gasco project, including names, e-mail addresses, and street addresses of respondents, will be available for public review at the Vernal Field Office.

FOR FURTHER INFORMATION CONTACT: Stephanie Howard, Project Manager, BLM Vernal Field Office 170 South 500 East, Vernal, Utah 84078; or by phone at (435) 781-4400.

SUPPLEMENTARY INFORMATION: The Draft EIS is available on the following Web site: http://www.blm.gov/ut/st/en/fo/vernal/planning.html. In response to a proposal submitted by Gasco Energy, Inc., (Gasco), the BLM published in the February 10, 2006, Federal Register a Notice of Intent to prepare an EIS. The Gasco EIS Project Area encompasses approximately 206,826 acres located about 20 miles south of Roosevelt, Utah. The Draft EIS analyzes a proposal by Gasco to develop Federal natural gas resources on their leases. Gasco's proposal includes drilling a total of up to 1,491 new wells and constructing associated ancillary transportation, transmission, and water disposal facilities within the project area. Of the 206,826 acres within the project area, about 86 percent is Federal lands administered by the BLM; 12 percent is owned by the State of Utah and administered by the Utah State School and Institutional Trust Lands Administration; and 2 percent is privately owned. The proposed life of the project is 45 years, with most drilling and development activities to occur within the first 15 years following approval of the BLM's Record of Decision.

The new gas wells would be drilled to the Wasatch, Mesaverde, Blackhawk, Mancos, Dakota, and Green River formations at depths of 5,000 to 20,000 feet. Gasco's proposal is based on a maximum surface density of one well pad per 40 acres, but the exact surface density would be defined during on-site review and permitting. The Proposed Action and alternatives incorporate best management practices for oil and gas development and other measures necessary to adequately address impacts to transportation, public safety, cultural resources, recreational opportunities, wildlife, threatened and endangered species, visual resources, wilderness characteristics, air quality, and other relevant issues.

The Draft EIS describes and analyzes the impacts of Gasco's Proposed Action and four alternatives, including the No Action Alternative. Three additional alternatives were considered but eliminated from detailed analysis. The following is a summary of the alternatives:

1. Proposed Action: Up to 1,491 new gas wells would be drilled and about 325 miles of new roads and 431 miles of pipelines would be constructed to support this proposed development. An evaporative facility of approximately 214 acres would be constructed to dispose of produced waters. In all, approximately 7,584 acres, or 4 percent of the total project area, would be disturbed under this alternative. No roads, pipelines, or well pads would be developed below the upper rim of Nine Mile Canyon. This is the agency preferred alternative in the Draft EIS.

2. Reduced Development: Up to 1,114 new gas wells would be drilled and about 274 miles of new roads and 393 miles of pipelines would be constructed to support development. An evaporative facility of approximately 157 acres would be constructed to dispose of produced waters. This alternative would avoid or minimize development in several sensitive areas, including Areas of Critical Environmental Concern (ACEC), non-Wilderness-Study-Area lands with wilderness characteristics, and lands near raptor nests and sage grouse leks. In all, approximately 5,685 acres, or 3 percent of the total project area, would be disturbed under this alternative. No well pads would be located below the upper rim of Nine Mile Canyon, although approximately 17 acres of surface disturbance would be expected due to roads or pipelines below the upper rim. This disturbance would include 2 miles of new roads.

3. Full Development: Under this alternative, all leases would be developed at 40-160 acre spacing, with up to 1,887 new gas wells drilled and about 526 miles of new roads and 861 miles of pipelines constructed to support development. An evaporative facility of approximately 271 acres would be constructed to dispose of produced waters. In all, approximately 9,982 acres, or 5 percent of the total project area, would be disturbed under this alternative. A total of 95 well pads would be located below the upper rim of Nine Mile Canyon, resulting in approximately 562 acres of surface disturbance. This disturbance would include 37 miles of new roads.

4. No Action Alternative: The proposed natural gas development on the BLM lands as described in the Proposed Action or other action alternatives would not be implemented. However, under this alternative, natural gas exploration and development is assumed to continue on Federal, State, and private lands, albeit at a much smaller scale. In all, approximately 2,055 acres, or 1 percent of the total project area, would be disturbed under this alternative. No roads, pipelines, or well pads would be developed below the upper rim of Nine Mile Canyon.

5. Directional Drilling: Up to 1,114 new gas wells would be drilled from 328 pads, and about 106 miles of new roads and 216 miles of pipelines would be constructed to support development. An evaporative facility of approximately 157 acres would be constructed to dispose of produced waters. This alternative would avoid or minimize development in several sensitive areas, including ACECs, lands with wilderness characteristics, and near raptor nests and sage grouse leks. In all, approximately 2,174 acres, or 1 percent of the total project area, would be disturbed under this alternative. No well pads would be located below the upper rim of Nine Mile Canyon, although approximately 9 acres of surface disturbance would be expected due to roads or pipelines below the upper rim. This disturbance would include 1 mile of new road.

6. Alternatives Considered, but Eliminated from Further Analysis: Three alternatives were considered but eliminated from further analysis. These include:

a. Total Avoidance of Development in Sensitive Areas: This alternative would preclude all development on sensitive lands within the project area, including BLM-administered lands near or within view of the Green River, areas proposed for special designations, and ACECs. This alternative was not carried forward because it would not meet the purpose and need of the project, which is for the BLM to allow development in an environmentally sound manner of lease rights held by Gasco and other operators. In addition, this alternative was not carried forward because it is not feasible and would not serve to reduce the impacts of the development from those of the proposed action or resource protection alternatives, which must comply with laws protecting endangered species, archaeological resources, and the like. These parcels are interspersed with private and State lands where development is proposed to occur, regardless of the Federal decision resulting from this Draft EIS. Avoiding development on Federal lands will not serve to prevent, for example, habitat fragmentation, where roads and pipelines will nevertheless be built to serve the development of the private and State minerals. While the BLM may require lessees to relocate proposed wells, the lessees have a reasonable contractual expectation that they can engage in development somewhere on their lease. Given the high proportion of the area that is already leased, it is unrealistic to expect to be able to implement this alternative on an adequate amount of acreage to achieve a reduction in impacts greater than will be achieved by compliance with the Endangered Species Act and other applicable laws, the Vernal Resource Management Plan, and two of the alternatives in the Draft EIS carried forward for detailed analysis.

b. Wells for Subsurface Water Disposal: This alternative was not carried forward because no suitable geologic formations for disposal wells have been discovered within the project area to date. Exploration and production wells in the project area have not indicated the presence of a suitably extensive and permeable formation for disposal.

c. Complete Reliance on Buried Pipelines and Centralized Tank Batteries: This alternative was not carried forward because of site-specific variables including shallow soils and highly variable topography. Due to shallow soils and surface bedrock, the surface disturbance from burying pipelines would be greater in severity or extent, or would persist longer, than those impacts resulting from the surface placement of pipelines. Where pipeline burial increases the percentage of coarse fragments in the soil, the reclamation potential of the disturbed area would be reduced due to a limited water-holding capacity. Similarly, collection pipelines from the wellhead to central tank batteries carry high levels of water and condensate and must be buried to prevent plugging and freezing at wellhead spacing greater than 20 acres. Therefore, centralization of these facilities would require a great deal of buried pipelines to be constructed, resulting in the same environmental impacts described above for buried pipelines. However, burying pipelines and centralizing tank batteries, as a means of reducing overall environmental impact, will be considered on a site-specific basis as appropriate.

The public is encouraged to comment on any of these alternatives. The BLM asks that those submitting comments make them as specific as possible with reference to chapters, page numbers, and paragraphs in the Draft EIS document. Comments that contain only opinions or preferences will not receive a formal response; however, they will be considered, and included, as part of the BLM decision-making process. The most useful comments will contain new technical or scientific information, identify data gaps in the impact analysis, or will provide technical or scientific rationale for opinions or preferences.

Before including your address, phone number, e-mail address, or other personal identifying information in your comment, you should be aware that your entire comment—including your personal identifying information-may be made publicly available at any time. While you can ask us in your comment to withhold your personal identifying information from public review, we cannot guarantee that we will be able to do so.

Juan Palma,
State Director.

[FR Doc. 2010-24582 Filed 9-30-10; 8:45 am]

BILLING CODE 4310-DQ-P